DEPARTMENT OF TRANSPORTATION

Federal Aviation Administration

14 CFR Part 39

[Docket No. FAA-2006-23799; Directorate Identifier 2004-NM-141-AD; Amendment 39-14475; AD 2006-03-11]

RIN 2120-AA64

Airworthiness Directives; British Aerospace Model HS 748 Airplanes

AGENCY: Federal Aviation Administration (FAA), Department of Transportation (DOT).

ACTION: Final rule; request for comments.

SUMMARY: The FAA is adopting a new airworthiness directive (AD) for all British Aerospace Model HS 748 airplanes. This AD requires installing a baulking actuator system for the elevator gust lock; doing a functional test and an inspection of any previously installed baulking actuator system for wiring errors; doing repetitive inspections of the gust lock baulk lever for correct operation; and corrective action, if necessary. This AD results from incidents where an elevator gust lock re-engaged without input from the flightcrew, and may have caused a flight control restriction. We are issuing this AD to prevent uncommanded re-engagement of the elevator gust lock, which could result in restriction of the elevator's movement and consequent reduced controllability of the airplane.

DATES: This AD becomes effective February 24, 2006.

The Director of the Federal Register approved the incorporation by reference of a certain publication listed in the AD as of February 24, 2006.

We must receive comments on this AD by April 10, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact British Aerospace Regional Aircraft American Support, 13850 Mclearen Road, Herndon, Virginia 20171, for service information identified in this AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Discussion

The Civil Aviation Authority (CAA), which is the airworthiness authority for the United Kingdom, notified us that an unsafe condition may exist on British Aerospace Model HS 748 airplanes. The CAA advises that there have been two incidents where re-engagement of the elevator gust lock without input by the flightcrew may have caused a flight control restriction. Uncommanded re-engagement of the elevator gust lock, if not corrected, could result in restriction of the elevator's movement and consequent reduced controllability of the airplane.

Relevant Service Information

British Aerospace has issued BAE Systems (Operations) Limited Service Bulletin HS748-27-135, Revision 2, dated October 2, 2003. The service bulletin describes procedures for installing a baulking actuator system for the elevator gust lock; doing a functional test of the actuator system for correct operation; and inspecting the gust lock baulk lever for correct operation. Accomplishing the actions specified in the service information is intended to adequately address the unsafe condition. The CAA mandated a previous revision of the service bulletin (which specified some wiring procedures incorrectly) and issued British airworthiness directive 003-12-2002 to ensure the continued airworthiness of these airplanes in the United Kingdom. The CAA has also issued British airworthiness directive G-2004-0002, dated February 18, 2004, which supersedes British airworthiness directive 003-12-2002, and requires doing additional actions in accordance with Revision 2 of the service bulletin.

Service Bulletin HS748-27-135 refers to BAE Systems (Operations) Limited Alert Service Bulletin HS748-A27-128, Revision 1, dated December 10, 2002, as an additional source of service information for accomplishing a check of the rigging of the gust lock system.

Service Bulletin HS748-27-135 also refers to BAE Systems (Operations) Limited Service Bulletin HS748-A27-76, Revision 3, dated December 20, 1996, as an additional source of service information for accomplishing an overlap check of the lever gate stop.

FAA's Determination and Requirements of This AD

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for products of this type design that are certificated for operation in the United States.

Therefore, we are issuing this AD to prevent uncommanded re-engagement of the elevator gust lock, which could result in restriction of the elevator's movement and consequent reduced controllability of the airplane. This AD requires accomplishing the actions specified in the service information described previously, except as described in “Difference Between This AD and the Service Bulletin.”

Difference Between This AD and the Service Bulletin

Where the service bulletin specifies to inspect the baulk lever for correct operation but does not specify corrective action, this AD requires operators to contact the FAA or the CAA (or its delegated agent) for repair instructions.

Clarification on Wiring Inspections

British airworthiness directive G-2004-0002 specifies to inspect the baulk lever installation for correct wiring, and correct the wiring as necessary. The Accomplishment Instructions of Revision 2 of the service bulletin has a note that states that rework in accordance with Revision 2 of the service bulletin is needed for wiring that was done in accordance with Revision 1. This AD requires a general visual inspection for correct wiring and rerouting the wiring as applicable in accordance with Revision 2.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Parts cost | Cost per airplane
Installation | 49 | $65 | $18,500 | $21,685.
Inspection, per inspection cycle | 2 | $65 | None | $130, per inspection cycle.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2006-23799; Directorate Identifier 2004-NM-141-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-03-11 BAE Systems (Operations) Limited (Formerly British Aerospace Regional Aircraft): Amendment 39-14475. Docket No. FAA-2006-23799; Directorate Identifier 2004-NM-141-AD.

Effective Date

(a) This AD becomes effective February 24, 2006.

Affected ADs

(b) None.

Applicability

(c) This AD applies to all BAE Systems (Operations) Limited Model HS 748 series 2A and series 2B airplanes, certificated in any category.

Unsafe Condition

(d) This AD results from incidents where an elevator gust lock re-engaged without input from the flightcrew, and may have caused a flight control restriction. We are issuing this AD to prevent uncommanded re-engagement of the elevator gust lock, which could result in restriction of the elevator's movement and consequent reduced controllability of the airplane.

Compliance

(e) You are responsible for having the actions required by this AD performed within the compliance times specified, unless the actions have already been done.

Installation and Repetitive Inspections

(f) Within 9 months after the effective date of this AD, install a baulking actuator system for the elevator gust lock in accordance with the Accomplishment Instructions of BAE Systems (Operations) Limited Service Bulletin HS748-27-135, Revision 2, dated October 2, 2003.

Note 1: BAE Systems (Operations) Limited Service Bulletin HS748-27-135, Revision 2, dated October 2, 2003, refers to BAE Systems (Operations) Limited Alert Service Bulletin HS748-A27-128, Revision 1, dated December 10, 2002; and BAE Systems (Operations) Limited Service Bulletin HS748-A27-76, Revision 3, dated December 20, 1996; as additional sources of service information for doing the installation.

(g) At the later of the times specified in paragraphs (g)(1) or (g)(2), test the actuator system for correct operation in accordance with Appendix 2 of BAE Systems (Operations) Limited Service Bulletin HS748-27-135, Revision 2, dated October 2, 2003. Repeat the inspection thereafter at intervals not to exceed 750 flight hours or 240 days, whichever occurs first. Correct any operation errors before further flight in accordance with a method approved by the FAA or the Civil Aviation Authority (CAA) (or its delegated agent).

(1) 750 flight hours or 240 days after installation of the actuator system, whichever occurs first.

(2) 750 flight hours or 240 days after the effective date of this AD, whichever occurs first.

Inspection of Any Installation Done in Accordance With Older Service Bulletin

(h) For airplanes with a baulking actuator system installed in accordance with the Accomplishment Instructions of BAE Systems (Operations) Limited Service Bulletin HS748-27-135, Revision 1, dated December 10, 2002: Within 750 flight hours or 240 days after the effective date of this AD, whichever occurs first, do the actions specified in paragraphs (h)(1) and (h)(2) of this AD.

(1) Do a general visual inspection of the actuator system for correct wiring in accordance with the Accomplishment Instructions of BAE Systems (Operations) Limited Service Bulletin HS748-27-135, Revision 2, dated October 2, 2003. Reroute any wiring as applicable before further flight in accordance with the service bulletin.

(2) Do a functional test of the actuator system in accordance with Appendix 1 of BAE Systems (Operations) Limited Service Bulletin HS748-27-135, Revision 2, dated October 2, 2003.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Previous Actions

(i) Actions done before the effective date of this AD in accordance with BAE Systems (Operations) Limited Service Bulletin HS748-27-135, Revision 1, dated December 10, 2002, are considered acceptable for compliance with paragraphs (f) and (g) of this AD.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) British airworthiness directives G-2004-0002, dated February 18, 2004, and 003-12-2002, also address the subject of this AD.

Material Incorporated by Reference

(l) You must use BAE Systems (Operations) Limited Service Bulletin HS748-27-135, Revision 2, dated October 2, 2003, to perform the actions that are required by this AD, unless the AD specifies otherwise. The Director of the Federal Register approved the incorporation by reference of this document in accordance with 5 U.S.C. 552(a) and 1 CFR part 51. Contact British Aerospace Regional Aircraft American Support, 13850 Mclearen Road, Herndon, Virginia 20171, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on January 26, 2006.
Ali Bahrami,
Manager, Transport Airplane Directorate, Aircraft Certification Service.

[FR Doc. 06-1149 Filed 2-8-06; 8:45 am]

BILLING CODE 4910-13-P